DEPARTMENT OF VETERANS AFFAIRS

[OMB Control No. 2900-0867]

Agency Information Collection Activity Under OMB Review: Health Eligibility Center (HEC) Income Verification (IV) Forms

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0867.

FOR FURTHER INFORMATION CONTACT: Maribel Aponte, Office of Enterprise and Integration, Data Governance Analytics (008), 1717 H Street NW, Washington, DC 20006, (202) 266-4688 or email maribel.aponte@va.gov. Please refer to “OMB Control No. 2900-0867” in any correspondence.

SUPPLEMENTARY INFORMATION: Authority: 44 U.S.C. 3501-3521.

Title: Health Eligibility Center (HEC) Income Verification (IV) Forms, VA Forms 10-301, 10-302, 10-302A, 10-303, and 10-304.

OMB Control Number: 2900-0867.

Type of Review: Reinstatement of a previously approved collection.

Abstract: VHA Directive 1909 provides policy for the Department of Veterans Affairs (VA) Health Eligibility Center (HEC) Income Verification (IV) Program under authority of 38 United States Code (U.S.C.) 1722; 38 U.S.C. 5317. Title 38 U.S.C. 1722 established eligibility assessment procedures, based on income levels, for determining whether nonservice-connected (NSC) Veterans and non-compensable zero percent service-connected (SC) Veterans, who have no other special eligibility, are eligible to receive VA health care at no cost. Title 26 U.S.C. 6103 (l)(7) of the Internal Revenue Code and 38 U.S.C. 5317 establish authority for VA to verify Veterans' gross household income information against records maintained by the Internal Revenue Service (IRS) and Social Security Administration (SSA) when that information indicates the Veteran is eligible for cost-free VA health care.

This information collection is necessary for HEC's Income Verification Division (IVD) to verify the income of Veterans and spouses. HEC IVD sends Veterans, and their spouses, individual letters to confirm income information reported by IRS and SSA. HEC does not change the Veteran's copay status until information supplied by IRS and SSA has been independently verified, either by the Veteran or through appropriate due process procedures.

An agency may not conduct or sponsor, and a person is not required to respond to a collection of information unless it displays a currently valid OMB control number. The Federal Register Notice with a 60-day comment period soliciting comments on this collection of information was published at 86 FR 223 on November 23, 2021, pages 66619 and 66620.

Affected Public: Individuals or Households.

Estimated Annual Burden: Total hours = 49,758.

10-301—27,948 hours.

10-302—5,679 hours.

10-302a—1,420 hours.

10-303—42 hours.

10-304—14,669 hours.

Estimated Average Burden per Respondent:

10-301—30 minutes.

10-302—20 minutes.

10-302a—15 minutes.

10-303—15 minutes.

10-304—20 minutes.

Frequency of Response: Once annually.

Estimated Number of Respondents: Total Respondents = 122,789.

10-301—55,896.

10-302—17,038.

10-302a—5,680.

10-303—167.

10-304—44,008.

By direction of the Secretary.
Maribel Aponte,
VA PRA Clearance Officer, Office of Enterprise and Integration, Data Governance Analytics, Department of Veterans Affairs.

[FR Doc. 2022-04683 Filed 3-4-22; 8:45 am]

BILLING CODE 8320-01-P